DEPARTMENT OF TRANSPORTATION

Federal Aviation Administration

14 CFR Part 71

[Docket No. FAA-2009-0202; Airspace Docket 09-AEA-11]

Modification of Class D and Class E Airspace, Establishment of Class E Airspace; Binghamton, NY

AGENCY: Federal Aviation Administration (FAA), DOT.

ACTION: Direct final rule; confirmation of effective date.

SUMMARY: This action confirms the effective date of a direct final rule published in the Federal Register (73 FR 17901) that modifies the Class D and E airspace at Binghamton Regional/Edwin A. Link Field Airport in Binghamton, NY. The development of specific Approach Procedures (APs) for the airfield required that the Class D and E surface airspace be reviewed and subsequently modified to facilitate a more efficient operation at Binghamton Regional/Edwin A. Link Field Airport.

DATES: Effective Date: 0901 UTC, September 14, 2009. The Director of the Federal Register approves this incorporation by reference action under title 1, Code of Federal Regulations, part 51, subject to the annual revision of FAA Order 7400.9 and publication of conforming amendments.

FOR FURTHER INFORMATION CONTACT: Melinda Giddens, Operations Support, Eastern Service Center, Federal Aviation Administration, P.O. Box 20636, Atlanta, Georgia 30320; telephone (404) 305-5610.

SUPPLEMENTARY INFORMATION:

Confirmation of Effective Date

The FAA published this direct final rule with a request for comments modifying Class D and E airspace; establishing Class E airspace in the Federal Register on April 20, 2009 (74 FR 17901), Docket No. FAA-2009-0202; Airspace Docket No. 09-AEA-11. The FAA uses the direct final rulemaking procedure for a non-controversial rule where the FAA believes that there will be no adverse public comment. This direct final rule advised the public that no adverse comments were anticipated, and that unless a written adverse comment, or a written notice of intent to submit such an adverse comment, were received within the comment period, the regulation would become effective on July 2, 2009. No adverse comments were received, and thus this notice confirms that effective date.

* * * * *

Issued in College Park, Georgia, on August 31, 2009.
Barry A. Knight,
Manager, Operations Support Group, Eastern Service Center, Air Traffic Organization.

[FR Doc. E9-21839 Filed 9-11-09; 8:45 am]

BILLING CODE 4910-13-P